FEDERAL COMMUNICATIONS COMMISSION

47 CFR Parts 0 and 64

[CG Docket No. 17-59; FCC 21-126; FRS 63918]

Advanced Methods To Target and Eliminate Unlawful Robocalls—Petition for Reconsideration and Request for Clarification of USTelecom—The Broadband Association

AGENCY: Federal Communications Commission.

ACTION: Proposed rule.

SUMMARY: In this document, the Federal Communications Commission (FCC or Commission) seeks comment on whether and how to transition away from the use of Session Initiation Protocol (SIP) Code 603 for purposes of the immediate notification of call blocking requirement and toward full implementation of SIP Codes 607 and 608. The Commission also seeks comment on any potential costs and benefits associated with phasing out SIP Code 603 for purposes of the immediate notification requirement, and the burden, if any, on small businesses.

DATES: Comments are due on or before January 31, 2022 and reply comments are due on or before February 14, 2022.

ADDRESSES: You may submit comments, identified by CG Docket No. 17-59, by the following method:

Federal Communications Commission: https://www.fcc.gov/ecfs.filings. Follow the instructions for submitting comments.

Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, 35 FCC Rcd 2788 (OMD 2020). In the event that the Commission announces the lifting of COVID-19 restrictions, a filing window will be opened at the Commission's office located at 9050 Junction Drive, Annapolis, MD 20701. See Amendment of the Commission's Rules of Practice and Procedure, Order, 35 FCC Rcd 5450 (OMD 2020).

FOR FURTHER INFORMATION CONTACT: Jerusha Burnett of the Consumer Policy Division, Consumer and Governmental Affairs Bureau, at jerusha.burnett@fcc.gov or (202) 418-0526.

SUPPLEMENTARY INFORMATION: This is a summary of the Commission's Further Notice of Proposed Rulemaking, FCC 21-126, CG Docket No. 17-59, adopted on December 10, 2021, and released on December 14, 2021.

The full text of this document is available online at https://docs.fcc.gov/public/attachments/FCC-21-126A1.pdf.

To request this document in accessible formats for people with disabilities (e.g., Braille, large print, electronic files, audio format) or to request reasonable accommodations (e.g., accessible format documents, sign language interpreters, CART), send an email to fcc504@fcc.gov or call the FCC's Consumer and Governmental Affairs Bureau at (202) 418-0530 (voice).

This matter shall be treated as a “permit-but-disclose” proceeding in accordance with the Commission's ex parte rules. 47 CFR 1.1200 et seq. Persons making oral ex parte presentations are reminded that memoranda summarizing the presentations must contain summaries of the substance of the presentations and not merely a listing of the subjects discussed. See 47 CFR 1.1206(b). Other rules pertaining to oral and written ex parte presentations in permit-but-disclose proceedings are set forth in § 1.1206(b) of the Commission's rules, 47 CFR 1.1206(b).

Initial Paperwork Reduction Act of 1995 Analysis

If the Commission adopts any modified information collection requirements, the Commission will publish another notice in the Federal Register inviting the public to comment on the requirements, as required by the Paperwork Reduction Act. Public Law 104-13; 44 U.S.C. 3501-3520. In addition, pursuant to the Small Business Paperwork Relief Act of 2002, the Commission seeks comment on how it might further reduce the information collection burden for small business concerns with fewer than 25 employees. Public Law 107-198; 44 U.S.C. 3506(c)(4).

Synopsis

1. In this Sixth Further Notice of Proposed Rulemaking (FNPRM), the Commission seeks comment on any potential costs and benefits associated with phasing out SIP Code 603 for purposes of the immediate notification of call blocking requirement, and the burden, if any, on small businesses. The Commission adopted an Order on Reconsideration on December 10, 2021, released on December 14, 2021, [insert FR cite], that granted USTelecom's request to allow voice service providers operating IP networks the flexibility to use SIP Code 603 to meet the immediate notification requirement beginning on January 1, 2022. At that time, the Commission also granted the request to clarify that the immediate notification requirements apply to all analytics-based blocking, and do not apply to non-analytics-based blocking programs and that the blocked calls list requirements applies only to opt-in or opt-out analytics-based blocking and not to other blocking programs.

2. In this FNPRM, the Commission seeks comment on whether and how to transition away from the use of SIP Code 603 for immediate notification and toward full implementation of SIP Codes 607 and 608. Should the Commission phase out use of SIP Code 603 for its immediate notification requirement or does SIP Code 603 provide adequate information to callers? Does SIP Code 603 require additional modifications to make it useful for callers? If so, would such modifications potentially eliminate any cost or time savings gained from allowing its use? Would use of SIP Code 603 for such purposes undermine its value for callers because its use is too varied for proper analysis by caller analytics programs?

3. The Commission also sought comment on whether setting a firm deadline for implementation of SIP Codes 607 and 608 is the best means of ensuring that voice service providers move expeditiously while allowing standards bodies to continue their important processes. If the Commission requires use of only SIP Codes 607 and 608, what is the appropriate deadline for implementation? What factors should the Commission consider in making this decision? How might the Commission encourage standards bodies to finalize their work in a timely manner? Should the Commission require voice service providers to submit status reports on their progress in implementing SIP Codes 607 and 608? If so, how often should the Commission require such status reports?

4. The Commission sought comment on any other matters raised by the SIP Code requirements addressed in the Order on Reconsideration. The Commission specifically requested comment on any potential costs and benefits associated with phasing out SIP Code 603 for purposes of the immediate notification requirement, and the burden, if any, on small businesses.

Initial Regulatory Flexibility Analysis

5. As required by the Regulatory Flexibility Act of 1980, as amended, (RFA), the Commission has prepared this Initial Regulatory Flexibility Analysis (IRFA) of the possible significant economic impact on a substantial number of small entities by the policies and rules proposed in this Sixth FNPRM. Written public comments are requested on this IRFA. Comments must be identified as responses to the IRFA and must be filed by the deadlines for comments on the FNPRM provided on the first page of this document. The Commission will send a copy of the FNPRM, including this IRFA, to the Chief Counsel for Advocacy of the Small Business Administration.

6. Need for, and Objectives of, the Proposed Rules. The FNPRM seeks comment on whether to phase out the use of SIP Code 603 for purposes of voice service providers' immediate notification requirements. The Commission continues to believe that it should retain its requirement that terminating voice service providers ultimately use only SIP Codes 607 or 608 in IP networks, as these codes are designed to be used for call blocking. As many commenters note, the design specifications for SIP Codes 607 and 608 provide important information that enables callers to contact blocking entities and initiate the redress process. The Commission believes that these codes present the best long-term solution for immediate notification. While some commenters argue that certain design specifications may be difficult to implement, the Commission believes that it should encourage standards-setting bodies to finalize their work and provide time for voice service providers to implement, test, and refine internal systems needed to return codes 607 and 608. The FNPRM seeks comment on this belief and whether and how the Commission should phase out the use of SIP Code 603 for purposes of voice service providers' immediate notification requirements.

7. Legal Basis. The proposed and anticipated rules are authorized under sections 154(i), 201, 202, 227, 251(e), and 403 of the Communications Act of 1934, as amended, 47 U.S.C. 154(i), 201, 202, 227, 251(e), 403, and section 10 of the Telephone Robocall Abuse Criminal Enforcement and Deterrence Act, Public Law 116-105, 133 Stat. 3274.

8. Description of Projected Reporting, Recordkeeping, and Other Compliance Requirements. As indicated above, the FNPRM seeks comment on whether and how to phase out the use of SIP Code 603 for purposes of voice service providers' immediate notification requirements. The FNPRM does not contain any projected reporting, recordkeeping, or other compliance requirements.

9. Steps Taken to Minimize Significant Economic Impact on Small Entities, and Significant Alternatives Considered. The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

10. The FNPRM seeks comment on whether and how to phase out the use of SIP Code 603 for purposes of voice service providers' immediate notification requirements. The Commission expects to consider the economic impact on small entities, as identified in comments filed in response to the FNPRM and this IRFA, in reaching its final conclusions and taking action in this proceeding.

11. Federal Rules that May Duplicate, Overlap, or Conflict with the Proposed Rules. None.

Federal Communications Commission.
Katura Jackson,
Federal Register Liaison Officer.

[FR Doc. 2021-28218 Filed 12-29-21; 8:45 am]

BILLING CODE 6712-01-P